DEPARTMENT OF DEFENSE

Department of the Army

Notice of Intent To Prepare an Environmental Impact Statement (EIS) for the Northern Training Complex With a Multi-Purpose Digital Training Range and Expanded Maneuver Areas, Drop Zones, and Landing Zones at Fort Knox, KY

AGENCY: U.S. Army Armor Center and Fort Knox, Department of the Army.

ACTION: Notice of intent.

SUMMARY: Fort Knox proposes to construct and operate a multi-purpose digital training range and a series of maneuver areas, drop zones and landing zones. These facilities would provide a multi-functional war-fighting capability to meet the Army's training needs for soldiers in urban and restricted terrain combat scenarios. These facilities would upgrade existing substandard range facilities and expand the installation's training capacity to train Armor soldiers in a realistic training environment for urban and restricted terrain combat. The current facilities do not meet modern tank gunnery standards and are inadequate to support training for regional conflicts in urban and restricted areas. The project would include the installation of fiber optics, upgrading of existing roadways and construction of utilities to the site. The proposed training complex would ensure soldiers are combat ready.

ADDRESSES: Please direct written comments concerning the scope of the Northern Training Complex to:

Al Freeland, Chief, Environmental Management Division, Directorate of Base Operations Support, U.S. Army Armor Center, ATTN: ATZK-OSE, Building 1110, Room 216, Ironsides & 6th Avenue, Fort Knox, KY 40121-5000;

or

Gail Pollock, Environmental Protection Specialist, at the same address; by fax at (502) 624-3000.

FOR FURTHER INFORMATION CONTACT: Al Freeland at (502) 624-3629 or Gail Pollock at (502) 624-6684.

SUPPLEMENTARY INFORMATION: The EIS will consider reasonable alternatives including: (1) Construct the Northern Training Complex that includes the Wilcox Multi-Purpose Digital Training Range (Wilcox MPDTR) and the Maneuver Areas, Drop Zones, and Landing Zones in Training Areas 16, 17, and 18 (Training Area Complex) (preferred alternative); (2) upgrade Yano Multi-Purpose Tank Range to a Digital Range and construct Maneuver Areas, Drop Zones, and landing Zones in Training Areas 16, 17, and 18; (3) upgrade Cedar Creek Multi-Purpose Tank Range to a Digital Range and construct Maneuver Areas, Drop Zones, and Landing Zones in Training Areas 16, 17, and 18; and (4) no action (continue operations with existing ranges and facilities). Other reasonable alternatives will also be considered.

Significant Issues: The primary issues to be analyzed in this EIS include: Noise (aircraft/range firing), impacts to wetlands and riparian areas, removal of approximately 2,500 acres of forests, soil erosion, water quality, endangered species, cultural resources, and other issues raised during public scoping.

Scoping: The Army prepared Draft Environmental Assessments for the Wilcox Multi-Purpose Digital Tank Range and the Training Area 16, 17 and 18 Maneuver/Drop Zones and Landing Zones. The Environmental Assessments resulted in a determination to prepare an EIS to encompass all areas affected within the proposed Northern Training Complex.

A mailing list has been prepared for public scoping and review throughout the process of preparation of this EIS. This list includes local, state and Federal officials having jurisdictional expertise or other interests in the project; concerned citizens; conservation groups; and local news media.

Comments concerning the scope of the EIS may also be emailed to Ms. Gail Pollock at pollockl@ftknox-emph3.army.mil.

Dated: May 15, 2000.
Raymond J. Fatz,
Deputy Assistant Secretary of the Army, (Environment, Safety and Occupational Health) OASA (I&E).

[FR Doc. 00-12584 Filed 5-17-00; 8:45 am]

BILLING CODE 3710-08-M